DEPARTMENT OF THE TREASURY

Submission for OMB Review; Comment Request

March 26, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 2, 2001 to be assured of consideration.

Internal Revenue Service (IRS)

OMB Number: 1545-0047.

Form Number: IRS Form 990 and Schedules A & B.

Type of Review: Extension.

Title: Return of Organization Exempt From Income Tax Under Section 501(c) of the Internal Revenue Code (Except Black Lung Benefit Trust or Private Foundation) or Sections 527 and 4947(a)(1) Non-Exempt Charitable Trust (Form 990); Organization Exempt Under Section 501(c)(3) (Except Private Foundation) and Section 501(e), 501(f), 501(k). 501(n), or Section 4947(a)(1) Nonexempt Charitable Trust (Schedule A); and Schedules of Contributors (Schedule B)

Description: Form 990 is needed to determine that Internal Revenue Code (IRC) section 501(a) tax-exempt organizations fulfill the operating conditions within the limitations of their tax exemption.

Respondents: Not-for-profit institutions.

Estimated Number of Respondents/Recordkeepers: 287,769.

Estimated Burden Hours Per Respondent/Recordkeeper:

Form/schedule | Recordkeeping | Learning about the law or the form | Preparing the form | Copying, assembling, and sending the form to the IRS
990 | 95 hr., 23 min | 16 hr., 48 min | 21 hr., 55 min | 48 min.
990-EZ | 28 hr., 28 min | 10 hr., 24 min | 12 hr., 16 min | 16 min.
Schedule A (990/990-EZ) | 50 hr., 13 min | 9 hr., 26 min | 10 hr., 40 min | 0 min
Schedule B (990/990-EZ) | 4 hr., 32 min | 1 hr., 23 min | 1 hr., 31 min | 0 min.

Frequency of Response: Annually.

Estimated Total Reporting/Recordkeeping Burden: 47,397,875 hours.

OMB Number: 1545-0962.

Publication Number: IRS Publication 1075.

Type of Review: Extension.

Title: Tax Information Security Guidelines for Federal, State, and Local Agencies.

Description: Internal Revenue Code section 6103(p) requires that IRS provide periodic reports to Congress describing safeguard procedures, utilized by agencies which receive information from IRS, to protect the confidentiality of the information. This section also requires that these agencies furnish reports to the IRS describing their safeguards.

Respondents: State, Local or Tribal Government, Business or other for-profit; Not-for-profit institutions, Federal Government.

Estimated Number of Respondents: 5,100.

Estimated Burden Hours Per Respondent: 40 hours.

Frequency of Response: Annually.

Estimated Total Reporting Burden: 204,000 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 01-7888 Filed 3-30-01; 8:45 am]

BILLING CODE 4830-01-P